DEPARTMENT OF EDUCATION

Office of Elementary and Secondary Education; Overview Information; Migrant Education Program (MEP) Consortium Incentive Grants Program; Notice Inviting Applications for New Awards for Fiscal Year (FY) 2006

Catalog of Federal Domestic Assistance (CFDA) Number:84.144.

Dates:

Applications Available: February 22, 2006.

Deadline for Transmittal of Applications: May 19, 2006.

Deadline for Intergovernmental Review: July 18, 2006.

Eligible Applicants: State educational agencies (SEAs) receiving MEP Basic State Formula grants.

Estimated Available Funds: $3,000,000.

Estimated Range of Awards: $50,000-$110,000.

Estimated Average Size of Awards: $76,923.

Maximum Award: By statute, the maximum amount that we may award under this program is $250,000.

Estimated Number of Awards: 39.

Note: The Department is not bound by any estimates in this notice.

Project Period: Up to 24 months.

Full Text of Announcement

I. Funding Opportunity Description

Purpose of Program: The purpose of the MEP Consortium Incentive Grants program is to provide incentive grants to State educational agencies (SEAs) that participate in high-quality consortia with another SEA or other appropriate entity to improve the delivery of services to migrant children whose education is interrupted. Through this program, the Department provides financial incentives to SEAs to participate in high-quality consortia that improve the intrastate and interstate coordination of migrant education programs by addressing key needs of migratory children who have their education interrupted.

Priorities: The priorities for this competition are from the notice of final requirements for this program, published in the Federal Register on March 3, 2004 (69 FR 10110).

Absolute Priorities: For FY 2006, these priorities are absolute priorities. Under 34 CFR 75.105(c)(3), we consider only applications that meet one or more of these absolute priorities. In order for SEAs to be considered for incentive grants, a proposed consortium in which an SEA would participate must address one or more of the following absolute priorities:

1. Services designed to improve the proper and timely identification and recruitment of eligible migratory children whose education is interrupted;

2. Services designed (based on a review of scientifically based research) to improve the school readiness of pre-school-aged migratory children whose education is interrupted;

3. Services designed (based on a review of scientifically based research) to improve the reading proficiency of migratory children whose education is interrupted;

4. Services designed (based on a review of scientifically based research) to improve the mathematics proficiency of migratory children whose education is interrupted;

5. Services designed (based on a review of scientifically based research) to decrease the dropout rate of migratory students whose education is interrupted and improve their high school completion rate;

6. Services designed (based on a review of scientifically based research) to strengthen the involvement of migratory parents in the education of migratory students whose education is interrupted; and

7. Services designed (based on a review of scientifically based research) to expand access to innovative educational technologies intended to increase the academic achievement of migratory students whose education is interrupted.

Program Authority: 20 U.S.C. 6398(d).

Applicable Regulations: (a) The Education Department General Regulations (EDGAR) in 34 CFR parts 75 (except 75.232), 76, 77, 79, 80 (except 80.40(b)), 82, 84, 85 and 99; and (b) the notice of final requirements published in the Federal Register on March 3, 2004 (69 FR 10110).

II. Award Information

Type of Award: Formula grants.

Estimated Available Funds: $3,000,000.

Estimated Range of Awards: $50,000-$110,000.

Estimated Average Size of Awards: $76,923.

Maximum Award: By statute, the maximum amount that we may award under this program is $250,000.

Estimated Number of Awards: 39.

Note: The Department is not bound by any estimates in this notice.

Project Period: Up to 24 months.

III. Eligibility Information

1. Eligible Applicants: State educational agencies (SEAs) receiving MEP Basic State Formula grants.

2. Cost Sharing or Matching: This program does not involve cost sharing or matching but does involve supplement-not-supplant funding provisions. Pursuant to the notice of final requirements published in the Federal Register on March 3, 2004 (69 FR 10110) the supplement-not-supplant provisions in sections 1120A(b) and 1304(c)(2) of the Elementary and Secondary Education Act of 1965, as amended, are applicable to this program.

IV. Application and Submission Information

1. Address to Request Application Package:Lisa Gillette, U.S. Department of Education, 400 Maryland Avenue, SW., room 3E253, FOB-6, Washington, DC 20202-6135. Telephone: (202) 205-0316, or by e-mail: lisa.gillette@ed.gov.

If you use a telecommunications device for the deaf (TDD), you may call the Federal Relay Service (FRS) at 1-800-877-8339.

Individuals with disabilities may obtain this document in an alternative format (e.g., Braille, large print, audiotape, or computer diskette) by contacting the program contact person listed in this section.

2. Content and Form of Application Submission: Requirements concerning the content of an application, together with the forms an applicant must submit, are in the application package for this program.

Page Limit: The application narrative (Part IV of the application) is where you, the applicant, describe the proposed consortium, including how the consortium meets the Application Requirements listed in the notice of final requirements published in the Federal Register on March 3, 2004 (69 FR 10110) and one or more of the absolute priorities, and address the selection criteria that reviewers use to evaluate your application. You must limit Part IV to the equivalent of no more than 30 double-spaced pages, using the following standards:

• A “page” is 8.5″ x 11″, on one side only, with 1″ margins at the top, bottom and both sides.

• Double space (no more than three lines per vertical inch) all text in the application narrative, including titles, headings, footnotes, quotations, references, and captions, as well as all text in charts, tables, figures, and graphs.

• Use a consistent font that is either 12-point or larger or no smaller than 10 pitch (characters per inch).

• For charts, tables, and graphs, use a font that is either 12-point or larger or no smaller than 10 pitch.

The page limit applies only to Part IV of the application. It does not apply to Parts I through III or Parts V through VII, or to any appendices, resumes, bibliography, or letters of support. However, an applicant must include all of the application narrative in Part IV.

Department reviewers will not read any pages of the Part IV narrative that:

• Exceed the page limit if you apply these standards, or

• Exceed the equivalent of the page limit if you apply other standards.

3. Submission Date and Times:

Applications Available: February 22, 2006.

Deadline for Transmittal of Applications: May 19, 2006.

Applications for grants under this competition must be submitted in paper format by mail or by hand delivery. For information (including dates and times) about how to submit your application by mail or by hand delivery, please refer to section IV.6. Other Submission Requirements in this notice.

The Department does not consider an application that does not comply with the deadline requirements.

Deadline for Intergovernmental Review: July 18, 2006.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section in this notice.

6. Other Submission Requirements: Applications for grants under this competition must be submitted in paper format by mail or hand delivery.

a. Submission of Paper Applications by Mail.

If you submit your application in paper format by mail (through the U.S. Postal Service or a commercial carrier), you must mail the original and two copies of your application, on or before the application deadline date, to the Department at the applicable following address:

By mail through the U.S. Postal Service:Lisa Gillette, Office of Migrant Education, U.S. Department of Education, 400 Maryland Avenue, SW., Room 3E253, Washington, DC 20202-6135; or

By mail through a commercial carrier: U.S. Department of Education, ATTN: Lisa Gillette, OESE, 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

b. Submission of Paper Applications by Hand Delivery.

If you submit your application in paper format by hand delivery, you (or a courier service) must deliver the original and two copies of your application by hand, on or before the application deadline date, to the Department at the following address: Lisa Gillette, Office of Migrant Education, U.S. Department of Education, 400 Maryland Avenue, SW., Room 3E253, Washington, DC 20202-6135.

Note: A person delivering an application must show identification to enter the U.S. Department of Education building.

V. Application Review Information

Selection Criteria: The selection criteria for this program are from 34 CFR 75.210 and are listed in the application package.

VI. Award Administration Information

1. Award Notices: If a consortium application is successful, the Department will send the applicant a Grant Award Notice (GAN). The Department will also notify Congress regarding grant awards. The Department may also notify successful applicants informally.

If an application is not evaluated or not selected for funding, the Department will notify the applicant.

2. Administrative and National Policy Requirements:We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Grant recipients under this program must submit the annual and final performance and financial reports specified in the notice of final requirements for this grant program published in the Federal Register on March 3, 2004 (69 FR 10110).

4. Performance Measures: Currently, the Government Performance and Results Act (GPRA) indicator established by the Department for the Migrant Education Program, of which the Consortium Incentive Grants are a component, is that an increasing number of States will show:

a. Increasing percentages of migrant students at the elementary school level who meet or exceed the proficient level on State assessments in reading.

b. Increasing percentages of migrant students at the middle school level who meet or exceed the proficient level on State assessments in reading.

c. Increasing percentages of migrant students at the elementary school level who meet or exceed the proficient level on State assessments in mathematics.

d. Increasing percentages of migrant students at the middle school level who meet or exceed the proficient level on State assessments in mathematics.

e. Decreasing percentages of migrant students who drop out from secondary school (grades 7-12).

f. Increasing percentages of migrant students who graduate from high school.

The Department will be collecting data from States on these performance measures.

VII. Agency Contacts

For Further Information Contact: Lisa Gillette, U.S. Department of Education, 400 Maryland Avenue, SW., room 3E253, FOB-6, Washington, DC 20202-6135. Telephone: (202) 205-0316, or by e-mail: lisa.gillette@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available for free at this site. If you have questions about using PDF, call the U.S. Government Printing Office (GPO), toll free, at 1-888-293-6498; or in the Washington, DC, area at (202) 512-1530.

You may also view this document in text at the following site: http://www.ed.gov/about/offices/list/oese/ome/index.html

Note: The official version of this document is the document published in the Federal Register. Free Internet access to the official edition of the Federal Register and the Code of Federal Regulations is available on GPO Access at: http://www.gpoaccess.gov/nara/index.html.

Dated: February 15, 2006.
Henry Johnson,
Assistant Secretary for Elementary and Secondary Education.

[FR Doc. E6-2514 Filed 2-21-06; 8:45 am]

BILLING CODE 4000-01-P